NATIONAL SCIENCE FOUNDATION

Agency Information Collection Activities: Survey of Science and Engineering Research Facilities

AGENCY: National Science Foundation.

ACTION: Submission for OMB review; comment request.

SUMMARY: The National Center for Science and Engineering Statistics (NCSES) within the National Science Foundation (NSF) has submitted the following information collection requirements to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Suite E7400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NCSES may not conduct or sponsor a collection of information unless the collection of information displays a currently valid OMB control number, and the agency informs potential persons who are to respond to the collection of information that such persons are not required to respond to the collection of information unless it displays a currently valid OMB control number.

SUPPLEMENTARY INFORMATION:

Title of Collection: Survey of Science and Engineering Research Facilities.

OMB Approval Number: 3145-0101.

Summary of Collection: The National Science Foundation Survey of Science and Engineering Research Facilities is a Congressionally mandated (Pub. L. 99-159; NSF Act of 1950, as amended; America COMPETES Reauthorization Act of 2010), biennial survey that has been conducted since 1986. As required by law, the survey collects data on the amount, condition, and costs of the physical facilities used to conduct science and engineering research. Congress expected this survey to provide the data necessary to describe the status and needs of science and engineering research facilities.

Use of the Information: Analysis of the Facilities Survey data will provide updated information on the status of scientific and engineering research facilities and capabilities. Statistics on the square footage of R&D space available, the condition of R&D space, and the costs for new construction, repairs, and renovation of R&D space at higher education institutions by S&E field are produced from the survey. The sources of funding for new construction and repair and renovation projects are also published. The survey information can be used by Federal policy makers, planners, and budget analysts in making policy decisions, as well as by institutional academic officials, the scientific/engineering establishment, and state agencies and legislatures that fund universities.

Data are published in NSF's annual publication series Survey of Science and Engineering Research Facilities, available on the web at http://nsf.gov/statistics/srvyfacilities/.

Expected respondents: The Facilities Survey, is a census of institutions that performed at least $1 million in separately accounted for science and engineering research and development in the previous year.

In the most recent FY 2021 Facilities Survey, a census of 586 academic institutions was conducted. The sampling frame used for the survey was the FY 2020 Higher Education Research and Development Survey conducted by the National Center for Science and Engineering Statistics.

Estimate of burden: The Facilities Survey will be sent to approximately 600 academic institutions for both the FY 2023 and FY 2025 data collection cycles. Response to this voluntary survey is typically 97 percent each cycle. The total estimated burden is 22,800 for the FY 2023 and FY 2025 surveys combined. Additional details on the burden calculation can be found in the first Federal Register Notice published on March 10, 2023, at 88 FR 15102.

Dated: July 6, 2023.
Suzanne H. Plimpton,
Reports Clearance Officer, National Science Foundation.

[FR Doc. 2023-14654 Filed 7-10-23; 8:45 am]

BILLING CODE 7555-01-P